DEPARTMENT OF DEFENSE

Department of the Air Force

HQ USAF Scientific Advisory Board

AGENCY: Department of the Air Force, DoD.

ACTION: Notice of meeting.

SUMMARY: Pursuant to Pub. L. 92-463, notice is hereby given of the forthcoming AFSOC Advisory Group Meeting. The purpose of this meeting is to advise the Commander, AFSOC on its technological focus and capabilities. Because of classified and contractor-proprietary information will be discussed, this meeting will be closed to the public.

DATES: November 12-14, 2003.

ADDRESSES: AFSOC/CC 100 Bartley Street, Hurlburt Field Florida.

FOR FURTHER INFORMATION CONTACT: Major Tim Kelly, Air Force Scientific Advisory Board Secretariat, 1180 Air Force Pentagon, Rm 5D982, Washington DC 20330-1180, (703) 697-4811.

Pamela D. Fitzgerald,
Air Force Federal Register Liaison Officer.

[FR Doc. 03-27732 Filed 11-4-03; 8:45 am]

BILLING CODE 5001-05-P